DEPARTMENT OF THE TREASURY

Customs Service

Application for Recordation of Trade Name: “French Dermatological Laboratory”

ACTION: Notice of Application for Recordation of Trade Name.

SUMMARY: Application has been filed pursuant to section 133.12, Customs Regulations (19 CFR 133.12), for the recordation under section 42 of the Act of July 5, 1946, as amended (15 U.S.C.1124), of the trade name “French Dermatological Laboratory,” used by Continental/Laboratories Medica, SARL, (“CLM”), located at Centre Nepture, Rue des Maraichers, 33260 La Teste, France.

The application states that the trade name is used in connection with soap. The particular cosmetics sold under the Trade Name include:

Lait “FAIR & WHITE” (Lightening milk)

Gel-creme “FAIR & WHITE” (Cream gel)

Gel actif plus “FAIR & WHITE” (Active lightening gel)

Creme “FAIR & WHITE” (Lightening cream)

Serum Eclaircissant “FAIR & WHITE” (Lightening Serum)

Soap “FAIR & WHITE”

Before final action is taken on the application, consideration will be given to any relevant data, views, or arguments submitted in writing by any person in opposition to the recordation of this trade name. Notice of the action taken on the application for recordation of this trade name will be published in the Federal Register.

DATES: Comments must be received on or before September 18, 2001.

ADDRESSES: Written comments should be addressed to U.S. Customs Service, Attention: Intellectual Property Rights Branch, 1300 Pennsylvania Avenue, NW., Washington, DC 20229.

FOR FURTHER INFORMATION CONTACT: Delois P. Johnson, Intellectual Property Rights Branch, 1300 Pennsylvania Avenue, NW., Washington DC 20229 (202-927-2330).

Dated: July 17, 2001.
George F. McCray,
Acting Chief, Intellectual Property Rights Branch.

[FR Doc. 01-18162 Filed 7-19-01; 8:45 am]

BILLING CODE 4820-02-P